DEPARTMENT OF TRANSPORTATION

Federal Transit Administration

Fiscal Year 2024 Competitive Funding Opportunity: Innovative Coordinated Access and Mobility (ICAM) Pilot Program

AGENCY: Federal Transit Administration (FTA), Department of Transportation (DOT).

ACTION: Notice of funding opportunity (NOFO).

SUMMARY: The Federal Transit Administration (FTA) announces the opportunity to apply for $4.7 million in Fiscal Year (FY) 2023 funding under the Innovative Coordinated Access and Mobility (ICAM) pilot program. This funding opportunity seeks to improve coordination to enhance access and mobility to vital community services for older adults, people with disabilities, and people of low income. As required by Federal public transportation law, funds will be awarded competitively as grants to finance innovative mobility management capital projects that will improve the coordination of transportation services and Non-Emergency Medical Transportation (NEMT) services. An additional $4.8 million is authorized for FY 2024 and FTA may award additional funding that is made available to the program prior to the announcement of project selections.

DATES: Applicants must submit completed proposals for each funding opportunity through the GRANTS.GOV “APPLY” function by 11:59 p.m. Eastern Time February 13, 2024. Prospective applicants should register as soon as possible on the GRANTS.GOV website to ensure they can complete the application process before the submission deadline.

ADDRESSES: Application instructions are available on FTA's website at https://www.transit.dot.gov/funding/grants/grant-programs/access-and-mobility-partnership-grants and in the “FIND” module of GRANTS.GOV. The GRANTS.GOV funding opportunity ID for the ICAM is FTA-2024-006-TPM-ICAM. Mail and fax submissions will not be accepted.

FOR FURTHER INFORMATION CONTACT: Destiny Buchanan, FTA Office of Program Management; Phone: (202) 493-8018; Email: Destiny.Buchanan@dot.gov.

SUPPLEMENTARY INFORMATION:

Table of Contents

A. Program Description

B. Federal Award Information

C. Eligibility Information

D. Application and Submission Information

E. Application Review Information

F. Federal Award Administration Information

G. Federal Awarding Agency Contact

H. Other Information

A. Program Description

Section 3006(b) of the Fixing America's Surface Transportation (FAST) Act (Pub. L. 114-94) authorizes FTA to award grants for ICAM pilot projects that improve the coordination of transportation services and NEMT services for transportation disadvantaged populations. The Infrastructure Investment and Jobs Act (the “Bipartisan Infrastructure Law” or “BIL”) (Pub. L. 117-58) authorized funding for FY 2022 through FY 2026. Transportation disadvantaged populations include older adults, people with disabilities, and people of low income.

In the FY 2024 program, FTA intends to target funding for regional and statewide mobility management capital projects that support coordination and enable comprehensive community access, including access to NEMT, for underserved groups. In accordance with Performance Measure 3.1.9 in the Coordinating Council on Access and Mobility (CCAM)'s 2023-2026 Strategic Plan (https://www.transit.dot.gov/regulations-and-programs/access/ccam/about/2023-2026-coordinating-council-access-and-mobility), FTA has collaborated with the Centers for Medicare and Medicaid Services (CMS) to ensure that this Notice of Funding Opportunity (NOFO) includes a link to the 2023 CMS sub-regulatory guidance [Assurance of Transportation: A Medicaid Transportation Coverage Guide (https://www.medicaid.gov/sites/default/files/2023-09/smd23006.pdf)] to help inform potential applicants about flexibilities within Medicaid NEMT. Applicants are encouraged to coordinate with and engage their State Medicaid office (https://www.medicaid.gov/state-overviews/state-profiles/index.html) to best understand and navigate the Medicaid NEMT rules and regulations to develop a successful ICAM pilot program application.

The CCAM consists of 11 Federal agencies and coordinates 130 Federal programs that may fund transportation (find the CCAM Program Inventory at https://www.transit.dot.gov/regulations-and-guidance/ccam/about/ccam-program-inventory). The CCAM's mission is to improve the availability, accessibility, and efficiency of transportation for targeted populations. The benefits of successful coordinated transportation systems include providing greater access to funding and enabling more cost-effective use of resources; reducing duplication and overlap in human service agency transportation services; filling service gaps in a community or geographic area; serving additional individuals within existing budgets; and providing more centralized management of existing resources.

The ICAM pilot program (Federal Assistance Listing 20.513) supports FTA's strategic goals of improving equity and connecting communities by providing funding for deployment of coordination technology, mobility management, and other capital projects that: improve access and mobility, positively affect social determinants of health, and improve quality of life for disadvantaged communities.

The Department seeks to award projects under the ICAM pilot program that will create proportional impacts to all populations in a project area, remove transportation related disparities to all populations in a project area, and increase equitable access to project benefits, consistent with Executive Order 13985, Advancing Racial Equity and Support for Underserved Communities Through the Federal Government (86 FR 7009). The Department also seeks to award projects that address equity and environmental justice, particularly for communities that have experienced decades of underinvestment and are most impacted by climate change, pollution, and environmental hazards, consistent with Executive Order 14008, Tackling the Climate Crisis at Home and Abroad (86 FR 7619).

The ICAM pilot program will improve State and regional coordination by funding regional and statewide mobility management capital projects that enable comprehensive community access, including NEMT, for underserved groups. Successful projects will prioritize coordination, including coordination with recipients of funding from Federal agencies that are members of the CCAM (https://www.transit.dot.gov/coordinating-council-access-and-mobility), that enhances access and mobility to vital community services for older adults, people with disabilities, and people of low income.

Agencies often restrict their transportation services to clients of a specific program and do not permit the vehicles or services to be used by other programs or riders. This practice leads to inefficient use of resources and unused capacity. These restrictions are often attributed to Federal requirements but compliance with Federal requirements can be achieved without such restrictions. Federally funded vehicles and transportation resources can be shared with other agencies that have a transportation role, as long as costs can be allocated appropriately. The ICAM pilot program seeks to help promote this coordination.

B. Federal Award Information

Federal public transportation law (49 U.S.C. 5338(a)(2)(E)) authorized $4,701,218 in FY 2023 funds for competitive grants under the ICAM pilot program. FTA may cap the amount a single recipient or State may receive as part of the selection process. There is no minimum or maximum grant award amount; however, FTA intends to fund as many meritorious projects as possible. An additional $4,823,972 is authorized for FY 2024 and FTA may award additional funding made available to the program prior to the announcement of the project selections.

Due to funding limitations, projects selected for funding may receive less than the amount originally requested. In those cases, applicants must be able to demonstrate that the proposed projects are still viable, meet all eligibility requirements, and can be completed with the amount awarded.

FTA will grant pre-award authority to incur costs for selected projects beginning on the date project selections are announced on FTA's website. Funds are available for obligation for two fiscal years after the fiscal year in which the competitive awards are announced. Funds are available only for eligible costs incurred after the date project selections are announced. FTA intends to fund as many meritorious projects as possible.

C. Eligibility Information

1. Eligible Applicants

Eligible applicants are entities eligible as direct or designated recipients under the Section 5310 program, including: State departments of transportation, designated recipients for Section 5310 funds, or local governmental entities that operate a public transportation service, or their eligible subrecipients that have the authority and technical capacity to implement a regional or statewide cost allocation pilot. Private entities that provide shared-ride on-demand service to the general public on a regular basis are operators of public transportation and are therefore eligible subrecipients. Organizations that do not operate public transportation are not eligible applicants.

Applicants must serve as the lead agency of a regional or statewide consortium that includes stakeholders from the transportation, healthcare, human service, or other sectors. Applicants are encouraged to coordinate with and engage their State Medicaid office (https://www.medicaid.gov/state-overviews/state-profiles/index.html) to best understand and navigate the Medicaid NEMT rules and regulations to develop a successful ICAM pilot program application. Recently updated Medicaid sub-regulatory guidance can be found in the aforementioned Assurance of Transportation: A Medicaid Transportation Coverage Guide. Members of this consortium are eligible as subrecipients if they would otherwise be eligible subrecipients of Section 5310 funds. Further, applicants must demonstrate that the proposed project was planned through an inclusive process with the involvement of the transportation, healthcare, and human service sectors. An implementation plan and schedule must be submitted as part of the proposal.

2. Cost Sharing or Matching

The maximum Federal share of projects selected under the ICAM pilot program is 80 percent. The applicant must provide a non-Federal share of at least 20 percent of the project cost and must document the source of the non-Federal match in the grant application. Federal funds may not be used as match for this program unless the Federal program providing the funds expressly authorizes its funds to fulfill the match requirement of another Federal program. Per 49 U.S.C. 5323(i), the Federal share may exceed 80 percent for certain projects related to the Americans with Disabilities Act (ADA) of 1990 and Clean Air Act (CAA) compliance as follows:

(1) Vehicles. The Federal share is 85 percent of the net project cost of the acquisition of vehicles (including clean-fuel or alternative fuel vehicles) for purposes of complying with or maintaining compliance with the ADA or CAA.

(2) Vehicle-Related Equipment and Facilities. The Federal share is 90 percent of the net project cost for acquiring vehicle-related equipment or facilities (including clean fuel or alternative fuel vehicle-related equipment or facilities) for purposes of complying or maintaining compliance with the ADA or CAA. FTA considers vehicle-related equipment to be equipment on and attached to the vehicle. The award recipient must itemize the cost of specific, discrete, vehicle-related equipment associated with compliance with the ADA or CAA to be eligible for the maximum 90 percent Federal share for these costs.

Eligible sources of non-Federal matching funds include:

i. Cash from non-governmental sources other than revenues from providing transit services (such as fare revenues);

ii. Non-farebox revenues from the operation of public transportation service, such as the sale of advertising and concession;

iii. Monies received under a service agreement with a State or local social service agency or private social service organization;

iv. Undistributed cash surpluses, replacement, or depreciation cash funds, reserves available in cash, or new capital;

v. In-kind contributions integral to the project;

vi. Revenue bond proceeds for a capital project, with prior FTA approval; and

vii. Transportation Development Credits (formerly referred to as Toll Revenue Credits).

3. Eligible Projects

Eligible projects are capital projects, as defined in 49 U.S.C. 5302(4). FTA intends to make grants to assist in financing innovative projects for the transportation disadvantaged that improve the coordination of transportation services and NEMT services, including: regional or statewide mobility management projects; deployment of coordination technology; and regional or statewide projects that create or increase access to one-call/one-click centers. For purposes of this NOFO, regional is defined as projects that cover more than one community or area such as multiple cities, counties, or tribal areas. FTA's goal for these pilot program grants is to identify and test promising, innovative, coordinated mobility strategies other communities can replicate. Only one project may be included in each application. The ICAM grants will operate as pilots for up to 24 months. Within the first year, projects must be able to demonstrate significant progress toward increased State interagency coordination. ICAM funds must be used to implement a regional or statewide pilot of coordinated service delivery, to demonstrate the benefits of coordinated transportation. Projects funded under previous ICAM NOFOs are not eligible.

D. Application and Submission Information

1. Address To Request Application Package

Applications must be submitted through GRANTS.GOV. Applicants can find general information for submitting applications at GRANTS.GOV. Mail and fax submissions will not be accepted. Applicants may also attach additional supporting information. Failure to submit the information as requested may delay or prevent review of the application.

2. Content and Form of Application Submission

i. Proposal Submission

A complete proposal submission consists of at least two forms, the SF-424 Mandatory Form and the Supplemental Form for the FY 2024 Innovative Coordinated Access and Mobility Pilot Program (downloaded from GRANTS.GOV or the FTA website at https://www.transit.dot.gov/funding/grants/grant-programs/access-and-mobility-partnership-grants). The application must include responses to all sections of the SF-424 Mandatory Form and the Supplemental Form unless a section is indicated as optional. FTA will use the information on the Supplemental Form to determine applicant and project eligibility for the program and to evaluate the proposal against the selection criteria described in part E of this notice. FTA will accept only one Supplemental Form per SF-424 submission. FTA encourages States and other applicants to consider submitting a single Supplemental Form that includes multiple activities to be evaluated as a consolidated proposal. If States or other applicants choose to submit separate proposals for individual consideration by FTA, they must submit each proposal with a separate SF-424 and Supplemental Form.

Applicants may attach additional supporting information to the SF-424 submission, including, but not limited to the following examples: letters of support, memorandums of understanding, interagency agreements, coordinated plans, project budgets, fleet status reports, or excerpts from relevant planning documents. Supporting documentation must be described and referenced by file name in the appropriate response section of the Supplemental Form, or it may not be reviewed.

Information such as applicant name, Federal amount requested, local match amount, or description of areas served, may be requested in varying degrees of detail on both the SF-424 Form and Supplemental Form. Applicants must fill in all fields unless stated otherwise on the forms. If applicants copy information into the Supplemental Form from another source, they should verify that the Supplemental Form has fully captured pasted text and that it has not truncated the text due to character limits built into the form. Applicants should use both the “Check Package for Errors” and the “Validate Form” buttons on both forms to check all required fields. Applicants should also ensure that the Federal and local amounts specified are consistent.

ii. Application Content

The SF-424 Mandatory Form and the Supplemental Form will prompt applicants for the required information, including:

a. Applicant Name

b. Unique Entity Identifier

c. Key contact information (including contact name, address, email address, and phone)

d. Congressional district(s) where project will take place

e. Project Information (including title, an executive summary, and type)

f. A detailed description of the project

g. A detailed description of the need for the project

h. A detailed description of how the project will support the ICAM pilot program goals to improve access to coordinated transportation services; reduce duplication of service; and enhance efficiency of the 130 Federal programs (https://www.transit.dot.gov/regulations-and-guidance/ccam/about/ccam-program-inventory) that may fund human service transportation.

i. Evidence that the project is consistent with State and regional planning documents including consistency with the Coordinated Public Transportation-Human Services Transportation Plan

j. A detailed description of all project partners and their specific role in the eligible project

k. Specific performance measures the project will use to quantify actual outcomes against expected outcomes

l. Evidence that the applicant can provide the non-Federal cost share and details on the non-Federal match

m. A description of the technical, legal, and financial capacity of the applicant

n. A detailed project budget (up to 24 months). The project budget should show how different funding sources will share in each activity and present those data in dollars and percentages. The budget should identify other Federal funds the applicant is applying for or has been awarded, if any, that the applicant intends to use. Funding sources should be grouped into three categories: non-Federal, ICAM (Federal), and other Federal with specific amounts from each funding source

o. An explanation of the scalability of the project (if applicable)—Applicants are encouraged to identify scaled funding options in case insufficient funding is available to fund a project at the full requested amount. If an applicant indicates that a project is scalable, the applicant must provide an appropriate minimum funding amount that will fund an eligible project that achieves the objectives of the program and meets all relevant program requirements. The applicant must provide a clear explanation of how the project budget would be affected by a reduced award.

p. A detailed project timeline

q. Address all the applicable criteria and priority considerations identified in Section E.

3. Unique Entity Identifier and System for Award Management (SAM)

Each applicant is required to: (1) be registered in SAM before submitting an application; (2) provide a valid unique entity identifier in its application; and (3) continue to maintain an active SAM registration with current information during which the applicant has an active Federal award or an application or plan under consideration by FTA. FTA may not make an award until the applicant has complied with all applicable unique entity identifier and SAM requirements. If an applicant has not fully complied with the requirements by the time FTA is ready to make an award, FTA may determine that the applicant is not qualified to receive an award and use that determination as a basis for making a Federal award to another applicant. These requirements do not apply if the applicant has an exception approved by FTA under 2 CFR 25.110(c) or (d). SAM registration takes approximately 3-5 business days, but FTA recommends allowing ample time, up to several weeks, for completion of all steps. For additional information on obtaining a unique entity identifier, please visit https://www.sam.gov.

FTA will provide further instructions on registration through an introductory applicant training session. Dates and times for the training session will be posted on FTA's website.

4. Submission Dates and Times

Project proposals must be submitted electronically through GRANTS.GOV by 11:59 p.m. Eastern Time February 13, 2024. Late applications will not be accepted. Mail and fax submissions will not be accepted.

FTA urges applicants to submit applications at least 72 hours prior to the due date to allow time to correct any problems that may have caused either GRANTS.GOV or FTA systems to reject the submission. Deadlines will not be extended due to scheduled website maintenance. GRANTS.GOV scheduled maintenance and outage times are announced on the GRANTS.GOV website.

Within 48 hours after submitting an electronic application, the applicant should receive an email message from GRANTS.GOV with confirmation of successful transmission to GRANTS.GOV. If a notice of failed validation or incomplete materials is received, the applicant must address the reason for the failed validation, as described in the email notice, and resubmit before the submission deadline. If making a resubmission for any reason, include all original attachments regardless of which attachments were updated and check the box on the supplemental form indicating this is a resubmission.

Applicants are encouraged to begin the process of registration on the GRANTS.GOV site well in advance of the submission deadline. Registration is a multi-step process, which may take several weeks to complete before an application can be submitted. Registered applicants may still be required to update their registration before submitting an application. Registration in SAM is renewed annually and persons making submissions on behalf of the Authorized Organization Representative (AOR) must be authorized in GRANTS.GOV by the AOR to make submissions.

5. Funding Restrictions

Funds made available under the ICAM pilot program may only be used for capital expenditures, including mobility management, that are included in the State Transportation Improvement Plan/Transportation Improvement Plan. Eligible projects are capital projects, as defined in 49 U.S.C. 5302(4). Allowable direct and indirect expenses must be consistent with the Government-wide Uniform Administrative Requirements and Cost Principles (2 CFR part 200) and FTA Circular 5010.1E.

Funds awarded under this notice cannot be used to reimburse recipients for expenses incurred prior to FTA issuing pre-award authority. FTA intends to issue pre-award authority pursuant to 2 CFR 200.458 to incur costs for selected projects beginning on the date FTA announces recipients of the FY 2024 awards on FTA's website. Funds are only available for projects that have not incurred costs prior to the announcement of project selections on FTA's website and the corresponding issuance of pre-award authority.

6. Other Submission Requirements

FTA encourages applicants to identify scaled funding options in the event that insufficient funding is available to fund a project at the fully requested amount. If an applicant indicates that a project is scalable, the applicant must provide an appropriate minimum funding amount that will fund an eligible project that achieves the objectives of the program and meets all relevant program requirements. The applicant must provide a clear explanation of how a reduced award would affect the project. FTA may award a lesser amount regardless of whether the applicant provides a scalable option.

E. Application Review Information

1. Criteria

FTA will evaluate proposals submitted according to the following criteria: (a) demonstration of need; (b) demonstration of benefits; (c) planning and partnerships; (d) local financial commitment; (e) project implementation strategy; and (f) technical, legal, and financial capacity. Each applicant is encouraged to provide a succinct, logical, and orderly response to all criteria referenced in this NOFO. Additional information may be provided to support the responses; however, any additional documentation must be directly referenced on the Supplemental Form, including the file name where the additional information can be found.

a. Demonstration of Need

FTA will evaluate proposals based on how the proposed project will address the need for a regional or statewide capital project that enables comprehensive community access, including NEMT access, for underserved groups. FTA will consider the scope of the overall need or challenge as described. Applications should address how the need is related to one or both of the following goals:

(1) A need to coordinate multiple funding sources that can fund transportation (i.e. CCAM Program Inventory (https://www.transit.dot.gov/regulations-and-guidance/ccam/about/ccam-program-inventory) which includes aging/disability programs (https://acl.gov/programs), Temporary Assistance for Needy Families (TANF) (https://www.acf.hhs.gov/ofa/programs/temporary-assistance-needy-families-tanf), Medicaid (https://www.medicaid.gov/about-us/learn-how-apply-for-coverage/index.html), etc.);

(2) A need to improve transportation services for the targeted disadvantaged community.

b. Demonstration of Benefits

FTA will evaluate proposals on the benefits provided by the proposed project. Benefits will be tied to the ICAM pilot program goals and project elements:

Goals:

(1) Improve access to coordinated transportation services;

(2) Reduce duplication of service; and

(3) Enhance efficiency of the 130 Federal programs that may fund human service transportation.

Project Elements:

(1) Develop an inter-agency transportation coordinating work group at the regional or state-level;

(2) The adoption of:

a. Consistent driver and vehicle standards,

b. Cost allocation rate(s) when clients of different programs use a single transportation service, (increasing efficiency by using the same vehicles to transport passengers whose trips are funded via different Federal programs),

c. Rate-setting methodology based on the cost allocation rate of providing transportation (allows costs to be billed or allocated appropriately to the transportation user, facilitating a more efficient use of transportation resources), and

d. Cost allocation technology (enables costs to be shared equitably among participating agencies who receive funding from a variety of Federal agencies); and

(3) Implementation of a regional or statewide pilot of coordinated service delivery to demonstrate the benefits of coordinated transportation.

Proposals for projects that will not directly address the ICAM objectives or project elements should describe how the ICAM objectives or project elements are already met in the state or region.

c. Planning and Partnerships

Applicants must describe the eligible project and identify project partners and their specific role in the project (e.g., vendor, subrecipient, state agency). Successful projects will work collaboratively and leverage partnerships with agencies that are funding recipients of the Federal agencies that are members of the CCAM, such as the Department of Health and Human Services' Administration for Community Living, Health Resources and Services Administration, and the Centers for Medicare and Medicaid Services. A full list of CCAM agencies may be accessed by going to https://www.transit.dot.gov/ccam/about/agencies. Partners also may include transportation providers as well as private and nonprofit entities involved in the coordination of NEMT for the transportation disadvantaged. Applicants should provide evidence of strong commitment from key partners, including memoranda of agreement or letters of support from relevant State agency stakeholders and partner organizations. Any changes to the proposed partnerships will require FTA's advance approval and must be consistent with the scope of the approved project. Projects may be derived from a locally developed, coordinated public transit-human services transportation plan. Inclusion in the locally developed coordinated public transit-human service transportation plan, local and/or regional long range planning documents, and/or local government priorities will demonstrate local/regional prioritization.

FTA will evaluate the project based on the extent to which it was developed inclusively, incorporating meaningful involvement from key stakeholders including consumer representatives of the target groups and providers from the healthcare, transportation, and human services sectors, among others. The applicant must show significant, ongoing involvement of the project's target population.

d. Local Financial Commitment

Applicants must identify the source of the non-Federal share and describe whether such funds are currently available for the project or will need to be secured if the project is selected for funding. FTA will consider the availability of the non-Federal share as evidence of local financial commitment to the project.

e. Project Implementation Strategy

FTA will evaluate the project on the proposed schedule, the applicant's demonstrated ability to implement the proposed project, and the applicant's ability to provide impact data during and after the pilot project. Applicants should indicate the short-term, mid-term, and long-term goals for the project. Proposals must provide specific performance measures the eligible project will use to quantify actual outcomes against expected outcomes.

FTA requires each successful applicant to report progress toward meeting project objectives on a quarterly basis and a final report at the end of the project. FTA will use this data to produce the required Annual Report to Congress that contains a detailed description of the activities carried out under the pilot program, and an evaluation of the program, including an evaluation of the performance measures described.

f. Technical, Legal and Financial Capacity

FTA will evaluate proposals on the capacity of the lead agency and any partners to successfully execute the pilot effort. The lead agency must have the authority and technical capacity to implement a regional or statewide cost allocation pilot project. The applicant should have no outstanding legal, technical, or financial issues that would make this a high-risk project. FTA will evaluate each proposal (including the business plan, financial projections, and other relevant data) for feasibility and longer-term sustainability of both the pilot project as well as the proposed project at full deployment. Applicants should discuss and include any supporting information demonstrating the lead agency has successfully executed a similar project or grant. FTA intends to select projects with a high likelihood of long-term success and sustainability.

2. Review and Selection Process

A technical evaluation committee made up of Federal staff will evaluate proposals based on the published evaluation criteria. FTA may request additional information from applicants, if necessary. Based on the review of the technical evaluation committee, the FTA Administrator will determine the final selection of projects for program funding. In determining the allocation of program funds, FTA may also consider geographic diversity, diversity in the size of the transit systems receiving funding, and the applicant's receipt of other competitive awards.

After applying the above criteria, FTA will give priority consideration to projects that support the Justice40 initiative, https://www.transportation.gov/equity-Justice40. In support of Executive Order 14008, DOT has been developing a geographic definition of Historically Disadvantaged Communities as part of its implementation of the Justice40 Initiative. Consistent with the Interim Guidance for the Justice40 Initiative, Historically Disadvantaged Communities include (a) certain qualifying census tracts identified as disadvantaged due to categories of environmental, climate, and socioeconomic burdens, as identified by the Climate and Economic Justice Screening Tool, and (b) any Federally Recognized Tribes or Tribal entities, whether or not they have land.¹ Applicants should use the Climate & Economic Justice Screening Tool (CEJST), a new tool by the White House Council on Environmental Quality (CEQ), that aims to help Federal agencies identify disadvantaged communities as part of the Justice40 initiative to accomplish the goal that 40 percent of overall benefits from certain Federal investments reach disadvantaged communities. Applicants should use CEJST as the primary tool to identify disadvantaged communities (Justice40 communities). Applicants are strongly encouraged to supplement their use of the CEJST by employing the USDOT Equitable Transportation Community (ETC) Explorer to understand how their community or project area is experiencing disadvantage related to lack of transportation investments or opportunities. Through understanding how a community or project area is experiencing transportation-related disadvantage, applicants are able to address how the benefits of a project will reverse or mitigate the burdens of disadvantage and demonstrate how the project will address challenges and accrued benefits. https://www.transportation.gov/priorities/equity/justice40/etc-explorer. Additionally, in support of the Justice40 Initiative, the applicant also should provide evidence of any strategies that the applicant has used in the planning process to seek out and consider the needs of those historically disadvantaged and underserved by existing transportation systems. For technical assistance using either mapping tool, please contact GMO@dot.gov.²

¹ https://whitehouse.gov/wp-content/uploads/2023/01/M-23-09_Signed_CEQ_CPO.pdf.

² See also https://static-data-screeningtool.geoplatform.gov/data-versions/1.0/data/score/downloadable/CEQ-CEJST-Instructions.pdf.

If an applicant is proposing to implement autonomous vehicles or other innovative motor vehicle technology, the application should demonstrate that all vehicles will comply with applicable safety requirements, including those administered by the National Highway Traffic Safety Administration (NHTSA) and Federal Motor Carrier Safety Administration (FMCSA). Specifically, the application should show that vehicles acquired for the proposed project will comply with applicable Federal Motor Vehicle Safety Standards (FMVSS) and Federal Motor Carrier Safety Regulations (FMCSR). If the vehicles may not comply, the application should either (1) show that the vehicles and their proposed operations are within the scope of an exemption or waiver that has already been granted by NHTSA, FMCSA, or both agencies or (2) directly address whether the project will require exemptions or waivers from the FMVSS, FMCSR, or any other regulation and, if the project will require exemptions or waivers, present a plan for obtaining them. If applicable, FTA will also consider the extent to which the application presents a plan to address workforce impacts of autonomous vehicles or other innovative motor vehicle technology.

3. Integrity and Performance Review

Prior to making an award, FTA is required to review and consider any information about the applicant that is in the Federal Awardee Performance and Integrity Information Systems (FAPIIS) accessible through SAM. An applicant may review and comment on information about itself that a Federal awarding agency previously entered. FTA will consider any comments by the applicant, in addition to the other information in FAPIIS, in making a judgment about the applicant's integrity, business ethics, and record of performance under Federal awards when completing the review of risk posed by applicants as described in 2 CFR 200.206, Federal Awarding Agency Review of Risk Posed by Applicants.

F. Federal Award Administration Information

1. Federal Award Notices

FTA will announce the final project selections on the FTA website. Project recipients should contact their FTA Regional Office for additional information regarding allocations for projects under each program. At the time the project selections are announced, FTA expects to extend pre-award authority for the selected projects. There is no pre-award authority for these projects before announcement.

2. Administrative and National Policy Requirements

i. Grant Requirements

Selected applicants will submit a grant application through FTA's Transit Award Management System (TrAMS) and adhere to FTA grant requirements. All competitive grants will be subject to the congressional notification and release process. All ICAM awards are subject to the requirements of the Formula Grants for the Enhanced Mobility of Seniors and Individuals with Disabilities (49 U.S.C. 5310), including those of FTA Circular “Enhanced Mobility of Seniors and Individuals with Disabilities Program Guidance and Application Instructions” (FTA.C.9070.1). All recipients must accept the FTA Master Agreement and follow the Award Management Requirements (FTA.C.5010.1E) and the labor protections required by Federal public transportation law (49 U.S.C. 5333(b)). Technical assistance regarding these requirements is available from each FTA Regional Office.

By submitting a grant application, the applicant assures that it will comply with all applicable Federal statutes, regulations, Executive orders, directives, FTA circulars and other Federal administrative requirements in carrying out any project supported by the FTA grant, including the Davis-Bacon Act (40 U.S.C. 3141-3144, and 3146-3148) as supplemented by Department of Labor regulations (29 CFR part 5, “Labor Standards Provisions Applicable to Contracts Covering Federally Financed and Assisted Construction”). Further, the applicant acknowledges that it is under a continuing obligation to comply with the terms and conditions of the grant agreement issued for its project with FTA. The applicant understands that Federal laws, regulations, policies, and administrative practices might be modified from time to time and may affect the implementation of the project. The applicant agrees that the most recent Federal requirements will apply to the project unless FTA issues a written determination otherwise. The applicant must submit the Certifications and Assurances before receiving a grant if it does not have current certifications on file.

As authorized by Section 25019 of the BIL, applicants are encouraged to implement a local or other geographical or economic hiring preference relating to the use of labor for construction of a project funded by the grant, including pre-hire agreements, subject to any applicable State and local laws, policies, and procedures.

ii. Made in America

A project funded under this NOFO must comply with FTA's Buy America (49 U.S.C. 5323(j)) and the Build America, Buy America Act's domestic preference requirements for infrastructure projects (§§ 70901-70927 of the Infrastructure Investment and Jobs Act, Pub. L. 117-58), which together require that all iron, steel, manufactured goods, and construction materials used in the project be produced in the United States and set minimum domestic content and final assembly requirements for rolling stock.

Any proposal that will require a waiver of any domestic preference standard must identify the items for which a waiver will be sought in the application. Applicants should not proceed with the expectation that waivers will be granted.

iii. Civil Rights Requirements

Applications should demonstrate that the recipient has a plan for compliance with civil rights obligations and nondiscrimination laws, including Title VI of the Civil Rights Act of 1964, the Americans with Disabilities Act (ADA), and Section 504 of the Rehabilitation Act, and accompanying regulations. This should include a current Title VI Program Plan and a completed Community Participation Plan (alternatively called a Public Participation Plan and often part of the overall Title VI program plan), if applicable. Applicants who have not sufficiently demonstrated the conditions of compliance with civil rights requirements will be required to do so before receiving funds.

Recipients of Federal transportation funding will be required to comply fully with the DOT's regulations and guidance for the ADA and all relevant civil rights requirements. The Department's and FTA's Office of Civil Rights will work with awarded grant recipients to ensure full compliance with Federal civil rights requirements.

iv. Disadvantaged Business Enterprise

Recipients of planning or capital assistance that will award prime contracts, the cumulative total of which exceeds $250,000 in FTA funds in a Federal fiscal year, must have a Disadvantaged Business Enterprise (DBE) program that complies with the U.S. Department of Transportation's DBE regulation (49 CFR part 26).

To be eligible to bid on any FTA-assisted vehicle procurement, entities that manufacture transit vehicles or perform post-production alterations or retrofitting must be certified Transit Vehicle Manufacturers (TVM). If a vehicle remanufacturer is responding to a solicitation for new or remanufactured vehicles with a vehicle to which the remanufacturer has provided post-production alterations or retrofitting (e.g., replacing major components such as engine to provide a “like new” vehicle), the vehicle remanufacturer must be a certified TVM.

v. Critical Infrastructure Security and Resilience

It is the policy of the United States to strengthen the security and resilience of its critical infrastructure against both physical and cyber threats. TSA issued Security Directive 1582-21-01B, “Enhancing Public Transportation and Passenger Railroad Cybersecurity” on October 23, 2023. The Security Directive, which applies to all public passenger rail owners and operators identified in 49 CFR 1582.101 and other TSA-designated owner/operators, requires four critical actions:

1. Designate a cybersecurity coordinator who is required to be available to TSA and the DHS's CISA at all times (all hours/all days) to coordinate implementation of cybersecurity practices, and manage of security incidents, and serve as a principal point of contact with TSA and CISA for cybersecurity-related matters;

2. Report cybersecurity incidents to CISA;

3. Develop a Cybersecurity Incident Response Plan to reduce the risk of operational disruption should their Information and/or operational technology systems be affected by a cybersecurity incident; and

4. Conduct a cybersecurity vulnerability assessment using the form provided by TSA and submit the form to TSA. The vulnerability assessment will include an assessment of current practices and activities to address cyber risks to information and operational technology systems, identify gaps in current cybersecurity measures, and identify remediation measures and a plan for the owner/operator to implement the remediation measures to address any vulnerabilities and gaps.

TSA issued IC-2021-01, “Enhancing Surface Transportation Cybersecurity”, dated December 31, 2021, which applies to each passenger railroad, public transportation agency, or rail transit system owner/operator not specifically covered under Security Directive 1582-21-01. This circular provides the same four recommendations for enhancing cybersecurity practices listed above. While this document is guidance and does not impose any mandatory requirements, TSA strongly recommends the adoption of the measures set forth in the circular.

vi. Planning

FTA encourages applicants to engage the appropriate State departments of transportation, Regional Transportation Planning Organizations, or Metropolitan Planning Organizations in areas to be served by the project funds available under these programs.

vii. Reporting

Post-award reporting requirements include submission of Federal Financial Reports and Milestone Progress Reports in FTA's electronic grants management system. An independent evaluation of the pilot program may occur at various points in the deployment process and at the end of the pilot project. In addition, FTA is responsible for producing an annual report to Congress evaluating the program, including an evaluation of the performance and outcome measures identified by the applicants. All applicants must develop a final report evaluating their performance measures and measuring the success or failure of their projects. FTA will provide successful applicants with technical assistance through the National Aging and Disability Transportation Center. The technical assistance will focus on the detailed development of project performance measures that are linked to project outcomes. FTA may request data and reports to support the independent evaluation and annual report. Applicants should also include any goals, targets, and indicators referenced in their application to the project in the Executive Summary of the TrAMS application.

FTA is committed to making evidence-based decisions guided by the best available science and data. In accordance with the Foundations for Evidence-based Policymaking Act of 2018 (Evidence Act), FTA may use information submitted in discretionary funding applications; information in FTA's Transit Award Management System (TrAMS), including grant applications, Milestone Progress Reports (MPRs), Federal Financial Reports (FFRs); transit service, ridership and operational data submitted in FTA's National Transit Database; documentation and results of FTA oversight reviews, including triennial and state management reviews; and other publicly available sources of data to build evidence to support policy, budget, operational, regulatory, and management processes and decisions affecting FTA's grant programs.

As part of completing the annual certifications and assurances required of FTA grant recipients, a successful applicant must report on the suspension or debarment status of itself and its principals. If the award recipient's active grants, cooperative agreements, and procurement contracts from all Federal awarding agencies exceeds $10,000,000 for any period of time during the period of performance of an award made pursuant to this notice, the recipient must comply with the Recipient Integrity and Performance Matters reporting requirements described in Appendix XII to 2 CFR part 200.

G. Federal Awarding Agency Contact

For questions about applying to the pilot program outlined in this notice, please contact the FTA Program Manager, Destiny Buchanan, phone: (202) 493-8018, or email, Destiny.Buchanan@dot.gov. A TDD is available at 1-800-877-8339 (TDDFIRS). Additionally, you may visit FTA's website for this program at https://www.transit.dot.gov/funding/grants/grant-programs/access-and-mobility-partnership-grants.

To ensure that applicants receive accurate information about eligibility or the program, applicants are encouraged to contact FTA directly with questions, rather than through intermediaries or third parties. FTA staff also may conduct briefings on the FY 2024 competitive grants selection and award process upon request. Contact information for FTA's regional offices can be found on FTA's website at https://www.transit.dot.gov/.

H. Other Information

This program is not subject to Executive Order 12372, Intergovernmental Review of Federal Programs.

All information submitted as part of or in support of any application shall use publicly available data or data that can be made public and methodologies that are accepted by industry practice and standards, to the extent possible. The Department may share application information within the Department or with other Federal agencies if the Department determines that sharing is relevant to the respective program's objectives. If an applicant submits information the applicant considers to be a trade secret or confidential commercial or financial information, the applicant must provide that information in a separate document, which the applicant may reference from the application narrative or other portions of the application. For the separate document containing confidential information, the applicant must do the following: (1) state on the cover of that document that it “Contains Confidential Business Information (CBI);” (2) mark each page that contains confidential information with “CBI;” (3) highlight or otherwise denote the confidential content on each page; and (4) at the end of the document, explain how disclosure of the confidential information would cause substantial competitive harm. FTA will protect confidential information complying with these requirements to the extent required under applicable law. If FTA receives a Freedom of Information Act (FOIA) request for the information that the applicant has marked in accordance with this section, FTA will follow the procedures described in DOT's FOIA regulations at 49 CFR 7.29. Only information that is in the separate document, marked in accordance with this section, and ultimately determined to be confidential will be exempt from disclosure under FOIA.

Nuria I. Fernandez,
Administrator.

[FR Doc. 2023-25181 Filed 11-14-23; 8:45 am]

BILLING CODE 4910-57-P